Proclamation 10243 of August 31, 2021

National Ovarian Cancer Awareness Month, 2021

By the President of the United States of America

A Proclamation

Every year, thousands of women in the United States are diagnosed with ovarian cancer. Like all cancers, ovarian cancer is brutal and cruel, inflicting pain and hardship for women and their families. Like so many families, my family and I know the pain of cancer all too well. During National Ovarian Cancer Awareness Month, we honor the courage of those affected by ovarian cancer and renew our commitment to fighting this illness that takes the lives of far too many women. We also recommit to improving and promoting early cancer detection, investing in cancer research, and ensuring that every woman has equitable access to the care they need and deserve.

Ovarian cancer is rare and deadly. Because there is no early ovarian cancer screening test, many women are diagnosed with this disease at an advanced stage. And despite ovarian cancer rates being highest among white women, Black women are more likely to die from this disease because of lack of access to health care, socioeconomic disparities, and other causes still under study.

To help women understand the risk of developing ovarian cancer, the Centers for Disease Control and Prevention (CDC) provides tools and resources to learn about the risk factors that increase the likelihood of being diagnosed with this disease. Risk factors for ovarian cancer include a family history of breast or ovarian cancer. Any woman who thinks she is at risk of ovarian cancer or who experiences persistent symptoms, including abdominal or pelvic pain, pressure, swelling, or bloating should talk with her health care provider. The CDC's Inside Knowledge about Gynecologic Cancer, which includes resources for ovarian cancer, also helps women recognize the warning signs and seek medical care. To learn more about ovarian cancer, visit www.cancer.gov/types/ovarian and www.cdc.gov/cancer.

The effort to eliminate ovarian cancer is taking place on all fronts, from laboratory research on cancer prevention, screening and early detection, diagnosis, treatment, and supportive care, to clinical research studies, clinical trials, and public health and awareness efforts. Through the leadership of the National Cancer Institute at the National Institutes of Health (NIH), scientists are focused on research to maintain and improve the quality and length of life for women with ovarian cancer. My Administration plans to build on these efforts by supporting investments in research and technology to develop new ways to detect ovarian cancer early, and improve treatment strategies. To push for these groundbreaking discoveries and innovative treatments, I have called for the creation of an Advanced Research Projects Agency for Health at the NIH—or ARPA-H—which would invest $6.5 billion to develop breakthroughs that prevent, detect, and treat cancer and other deadly diseases. I am committed to doing everything I can to end cancer as we know it, and to bring together the human, financial, and knowledge resources necessary to make the breakthroughs that will dramatically advance our progress against cancer and deliver hope and health to the world.

My Administration is also dedicated to protecting ovarian cancer patients through the Affordable Care Act (ACA). Because of the ACA, insurance companies are banned from dropping a woman's coverage because she has a pre-existing condition such as ovarian cancer. The ACA also covers “well-woman visits” to a primary care physician and gynecologist that include a full checkup, with no copayments or deductibles. These visits focus on preventive care for women and may help detect ovarian cancer as early as possible.

As we observe National Ovarian Cancer Awareness Month, we are united in our goal to end ovarian cancer, and to improve the lives of all women carrying the burden of this disease—including the lives of their families and loved ones. We are also united in our support of the researchers, advocates, and health care professionals who are working tirelessly for new solutions to prevent, detect, and treat ovarian cancer, and to improve the overall health and well-being of all women.

NOW, THEREFORE, I, JOSEPH R. BIDEN JR., President of the United States of America, by virtue of the authority vested in me by the Constitution and the laws of the United States, do hereby proclaim September 2021 as National Ovarian Cancer Awareness Month. I call upon the women of the United States to speak with their doctors and health care providers to learn more about ovarian cancer. I encourage citizens, government agencies, private businesses, nonprofit organizations, the media, and other interested groups to increase awareness of what Americans can do to detect and treat ovarian cancer.

IN WITNESS WHEREOF, I have hereunto set my hand this thirty-first day of August, in the year of our Lord two thousand twenty-one, and of the Independence of the United States of America the two hundred and forty-sixth.

[FR Doc. 2021-19324

Filed 9-2-21; 11:15 am]

Billing code 3295-F1-P